DEPARTMENT OF TRANSPORTATION

National Highway Traffic Safety Administration

[Docket No. NHTSA-2014-0096; Notice 1]

Tesla Motors, Inc., Receipt of Petition for Decision of Inconsequential Noncompliance

AGENCY: National Highway Traffic Safety Administration (NHTSA), Department of Transportation (DOT).

ACTION: Receipt of Petition.

SUMMARY: Tesla Motors, Inc. (Tesla) has determined that certain model year (MY) 2008 Roadster 1.5 passenger cars do not fully comply with paragraph S4.4(c)(2), of Federal Motor Vehicle Safety Standard (FMVSS) No. 138, Tire Pressure Monitoring Systems. TESLA has filed an appropriate report dated August 1, 2014, pursuant to 49 CFR part 573, Defect and Noncompliance Responsibility and Reports.

DATES: The closing date for comments on the petition is July 24, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. Tesla's Petition: Pursuant to 49 U.S.C. 30118(d) and 30120(h) and the rule implementing those provisions at 49 CFR part 556, Tesla submitted a petition for an exemption from the notification and remedy requirements of 49 U.S.C. Chapter 301 on the basis that this noncompliance is inconsequential to motor vehicle safety.

This notice of receipt of Tesla's petition is published under 49 U.S.C. 30118 and 30120 and does not represent any agency decision or other exercise of judgment concerning the merits of the petition.

II. Vehicles Involved: Affected are approximately 542 MY 2008 Roadster 1.5 passenger cars manufactured from February 1, 2008 through October 29, 2009.

III. Noncompliance: Tesla explains that if a fault is detected in a sensor, because the sensor is faulty, missing or unapproved, the Tire Pressure Monitoring System (TPMS) malfunction telltale will flash for 60 to 90 seconds and then remain continuously illuminated as required by FMVSS No. 138. However, the TPMS malfunction telltale fails to operate properly when a faulty, missing or unapproved sensor is detected and then the vehicle's ignition is cycled off and back on. In this situation, the malfunction telltale in the subject vehicles does not re-illuminate immediately as required when the ignition locking system is re-activated. Instead, the affected vehicles must reach a speed between 20 mph and 25 mph for a maximum period of at least 90 seconds before the TPMS malfunction telltale re-illuminates.

Rule Text: Paragraph S4.4(c)(2) of FMVSS No. 138 requires in pertinent part:

S4.4 TPMS Malfunction.

(c) Combination low tire pressure/TPMS malfunction telltale. The vehicle meets the requirements of S4.4(a) when equipped with a combined Low Tire Pressure/TPMS malfunction telltale that:

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected. . . .

V. Summary of Tesla's Analyses: Tesla stated its belief that the subject noncompliance is inconsequential to motor vehicle safety for the following reasons:

(A) Tesla states that they provide warnings and alerts in several ways above and beyond the minimal requirements of the regulations. Specifically, the TPMS on the subject vehicles automatically checks the wheel sensors fitted on the vehicle. The TPMS then checks the tire pressure from each sensor and that the check system for tire pressure occurs prior to the vehicle moving. The TPMS detects one or more new sensors (meaning different from those calibrated by the TPMS during the vehicles last ignition cycle), the TPMS will automatically “learn” the new sensors. After calibration, the TPMS will again review all four tires for any low pressure situation.

If a low pressure situation occurs in one or more of the four tires on the vehicle, the system will continuously illuminate the combined low pressure/malfunction indicator lamp (MIL), thus providing the driver a timely warning of low tire pressure. In addition, the subject vehicles are also equipped with an auxiliary screen that provides additional warnings and information regarding a low pressure condition. When one or more of the four tires have a detected low tire pressure condition, the auxiliary screen in the lower portion of the center console area will automatically display an alert screen alerting the driver to a low tire pressure condition. In addition, the auxiliary screen will also display a diagram of the vehicle and note the tire at issue in a conspicuous manner. The system's auxiliary screen will also show the condition of all remaining tires. Information regarding the status of the tire pressures is available to the driver through a menu on this auxiliary screen at any time, even if the tires are properly inflated. This type of detailed information and multiple alerts ensures the drivers are well informed of a potential low tire pressure condition.

(B) Tesla also states that the TPMS only fails to operate properly when a faulty, missing or non-approved sensor is detected and the ignition is cycled. Specifically, if such a fault is detected, but the ignition is then cycled off, then on, the MIL will reset, thus requiring the system to re-detect the fault or missing or unapproved sensor versus immediately re-illuminating the MIL from the previously detected fault. The noncompliance is confined to this one particular aspect of TPMS function. All other functions remain in compliance with the requirements of FMVSS No. 138.

(C) Tesla further stated that although the MIL fails to re-illuminate immediately after a subsequent ignition off/on cycle, the TPMS remains functional. As a result, the system will still accurately detect the continued presence of a fault in a sensor and illuminate the MIL anew. Specifically, after ignition off/on, the TPMS will detect anew the faulty, missing or non-approved sensor and the MIL will flash for 60-90 seconds before staying on. This will occur no more than 90 seconds after the vehicle reaches a speed of between 20mph and 25 mph. Once illuminated, the MIL will remain on throughout the course of the ignition cycle, regardless of further operating speeds or other conditions. Moreover, the additional warnings via the “fault” display in the dashboard, and the auxiliary display warnings will appear anew. Clearing the new warning in the auxiliary screen will once again require the driver to actively clear the screen. Tesla believes this is especially effective in notifying vehicle operators in that the reanimation of the center auxiliary screen warning and subsequent action required to clear the screen ensures review of the warning by the driver.

(D) Tesla says they have not received any complaints, noted any issues, or had any incidents or other issues relating to the failure of the TPMS module noncompliance.

In summation, Tesla believes that the described noncompliance of the subject vehicles is inconsequential to motor vehicle safety, and that its petition, to exempt Tesla from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Tesla no longer controlled at the time it determined that the noncompliance existed. However, any decision on this petition does not relieve vehicle distributors and dealers of the prohibitions on the sale, offer for sale, or introduction or delivery for introduction into interstate commerce of the noncompliant vehicles under their control after Tesla notified them that the subject noncompliance existed.

Authority: (49 U.S.C. 30118, 30120: delegations of authority at 49 CFR 1.95 and 501.8)

Jeffrey Giuseppe,
Director, Office of Vehicle Safety Compliance.

[FR Doc. 2015-15424 Filed 6-23-15; 8:45 am]

BILLING CODE 4910-59-P